DEPARTMENT OF COMMERCE

National Oceanic and Atmospheric Administration

Agency Information Collection Activities; Submission to the Office of Management and Budget (OMB) for Review and Approval; Comment Request; Data Collections To Support Comprehensive Economic and Socio-Economic Evaluations of the Fisheries in Regions of the United States Affected by Catastrophic Events

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 2, 2021(86 FR 12174) during a 60-day comment period. This notice allows for an additional 30 days for public comments.

Agency: National Oceanic & Atmospheric Administration (NOAA), Commerce.

Title: Data Collections to Support Comprehensive Economic and Socio- Economic Evaluations of the Fisheries in Regions of the United States Affected by Catastrophic Events.

OMB Control Number: 0648-0767.

Form Number(s): None.

Type of Request: Regular submission [revision of a currently approved collection].

Number of Respondents: 7,184.

Average Hours per Response: Regional surveys of fishing operations: 30 minutes; Regional surveys of other fishing related businesses: 30 minutes; National surveys of fishing operations: 20 minutes; National surveys of other fishing related businesses: 20 minutes.

Total Annual Burden Hours: 3,200.

Needs and Uses: The revised information collection will allow NMFS to continue to collect information about the impacts of and recovery from regional and national catastrophic events and the factors that facilitated or impeded recovery. The impacts include insured and uninsured damages/losses and changes in revenue, operating costs and employment due to those events NMFS will collect this information from the owners or operators of commercial and for hire fishing vessels and from the owners or managers of other fishing related businesses. NMFS needs this information to conduct the economic and socio-economic evaluations of catastrophic regional fishery disasters mandated by SEC. 315(c) of the Magnuson-Stevens Fishery Conservation and Management Act (MSA). Those and/or subsequent evaluations based on this information will be used by: (1) The Secretary of Commerce in determining if a fisheries disaster should be declared; (2) the Department of Commerce and NOAA in their deliberations regarding the disbursement of the fishery disaster relief assistance proved by Congress; (3) NMFS to inform agency leadership, state agencies, Congress, and constituents about the long-term effects of catastrophic events and the factors that facilitated or impeded recovery; and (4) NMFS to improve its ability to conduct the analyses required by the MSA and other applicable law, which will allow for better-informed, science-based fishery management decisions making.

The proposed revisions would expand the coverage of the currently approved information collection in two ways. First, they would expand the types of catastrophic events from “hurricanes and other climate related natural disasters” to events including hurricanes, tsunamis, floods, freshwater intrusions, severe harmful algal blooms (e.g., red tides), extreme temperatures, oil spills, and pandemics. Second, they would extend the geographic scope from the “Eastern, Gulf Coast and Caribbean Territories of the United States” to all regions and territories of the United States. These proposed expansions are reflected in the request to change the title from “Assessment of the Social and Economic Impact of Hurricanes and Other Climate Related Natural Disasters on Commercial and Recreational Fishing Industries in the Eastern, Gulf Coast and Caribbean Territories of the United States” to “Data Collections to Support Comprehensive Economic and Socio-Economic Evaluations of the Fisheries in Regions of the United States Affected by Catastrophic Events.” NMFS will improve the survey instruments and collection methods based on lessons learned from conducting and assessing the previous information collections. The frequency of reporting will be from one to two times a year for each catastrophic event.

Affected Public: Individuals or households and business or other for-profit organizations.

Frequency: The frequency of reporting will be as needed from one to four times a year for each catastrophic event.

Respondent's Obligation: Voluntary.

Legal Authority: Magnuson-Stevens Fishery Conservation and Management Act SEC. 315(c).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0767.

Sheleen Dumas,
Department PRA Clearance Officer, Office of the Chief Information Officer, Commerce Department.

[FR Doc. 2021-11886 Filed 6-4-21; 8:45 am]

BILLING CODE 3510-22-P